DEPARTMENT OF HOUSING AND URBAN DEVELOPMENT

[Docket No. FR-5750-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Ms. Connie Lotfi, Air Force Real Property Agency, 143 Billy Mitchell Blvd., San Antonio, TX 78226, (210) 925-3047; COAST GUARD: Commandant, United States Coast Guard, Attn: Jennifer Stomber, 2100 Second St. SW., Stop 7901, Washington, DC 20593-0001; (202) 475-5609; COMMERCE: Ms. Linda Steward, Department of Commerce, Office of Real Estate, 1401 Constitution Ave. NW., Room 1036, Washington, DC 20230, (202) 482-1770; NASA: Mr. Frank T. Bellinger, Facilities Engineering Division, National Aeronautics & Space Administration, Code JX, Washington, DC 20546, (202) 358-1124 NAVY: Mr. Steve Matteo, Department of the Navy, Asset Management Division, Naval Facilities Engineering Command, Washington Navy Yard, 1330 Patterson Ave. SW., Suite 1000, Washington, DC 20374; (202) 685-9426 (These are not toll-free numbers).

Dated: August 7, 2014.
Brian P. Fitzmaurice,
Director, Division of Community Assistance, Office of Special Needs Assistance Programs.

TITLE V, FEDERAL SURPLUS PROPERTY PROGRAM FEDERAL REGISTER REPORT FOR 08/15/2014

Suitable/Available Properties

Building

Maryland

Building 085C,

Storage Shed #085C

1202B0085C/08940 RPUID #03.52231

Beltsville, MD 20705

Landholding Agency: Agriculture

Property Number: 15201430006

Status: Excess

Comments: 1,543 sq. ft. (3400); Storage; need new roof; HVAC/electrical/plumbing repairs needed; secured area; contact Agriculture for more information.

Building 053,

Biological Greenhouse #053

1200B00053/08940 RPUID #03.52077

Beltsville, MD 20705

Landholding Agency: Agriculture

Property Number: 15201430007

Status: Excess

Comments: 1,453 sq. ft. (3400); storage; HVAC/electrical/plumbing repairs needed; secured area; contact Agriculture for more information.

Building 1206,

Animal Building #1206

1203B01206/08940 RPUID #03.52604

Beltsville, MD 20705

Landholding Agency: Agriculture

Property Number: 15201430008

Status: Excess

Comments: 1,543 sq. ft. (3400); storage; HVAC/electrical/plumbing repairs needed; secured area; contact Agriculture for more information.

Building 1420,

Laboratory #1420

1203B01420/08940 RPUID #03.52707

Beltsville, MD 20705

Landholding Agency: Agriculture

Property Number: 15201430009

Status: Excess

Comments: 1,543 sq. ft. (3,400); lab; new roof need; HVAC/electrical/plumbing repairs needed; secured area; contact Agriculture for more information.

Building 1145,

Animal Building #1145

1203B01145/08940 RPUID #03.52549

Beltsville, MD 20705

Landholding Agency: Agriculture

Property Number: 15201430010

Status: Excess

Comments: 1,543 sq. ft. (3,400); HVAC/electrical/plumbing repairs needed; secured area; contact Agriculture for more information.

Building 018, Residence 018

RPUID: 03.52045; 1200B00018/08940

Beltsville, MD 02705

Landholding Agency: Agriculture

Property Number: 15201430011

Status: Excess

Comments: 1,543 sq. ft. (3,400); residential; fair structural condition; new roof needed; HVAC/utility system needed; secured area; contact Agriculture for more information.

Building 1204,

Animal Pen #1204

1203B01204/08940 RPUID #03.52602

Beltsville, MD 20705

Landholding Agency: Agriculture

Property Number: 15201430012

Status: Excess

Comments: 1,543 (3400); storage; repairs needed; secured area; contact Agriculture for more information.

Building 465—Screen Building

1203B00465/08940 RPUID #03.52452

Beltsville, MD 20705

Landholding Agency: Agriculture

Property Number: 15201430013

Status: Excess

Comments: 4,404 sq. ft.; greenhouse/research; new roof needed; HVAC/plumbing/electrical repairs needed; secured area; contact Agriculture for more information.

Unsuitable Properties

Building

California

NOAA's National Marine

Fisheries Service

8604 La Jolla Shores Dr.

San Diego, CA 92038

Landholding Agency: Commerce

Property Number: 27201430001

Status: Unutilized

Comments: Documented deficiencies: Property is located on cliff where the land is eroding into the Pacific Ocean; clear threat to personal safety.

Reasons: Extensive deterioration

Shuttle Support Training Trail

AFRC on Edwards AFB

Edwards, CA

Landholding Agency: NASA

Property Number: 71201430001

Status: Excess

Comments: Public access denied & no alternative without compromising National Security.

Reasons: Secured Area

Dryden Learning Center

AFRC on Edwards AFB

Edwards, CA

Landholding Agency: NASA

Property Number: 71201430002

Status: Excess

Comments: Public access denied and no alternative without compromising national security.

Reasons: Secured Area

Shuttle Support—Test Equip.

Pool Trailer

AFRC on Edwards AFB

Edwards, CA

Landholding Agency: NASA

Property Number: 71201430003

Status: Excess

Comments: Public access denied & no alternative without compromising national security.

Reasons: Secured Area

Guard Post No. 12 (Shuttle)

AFRC on Edwards AFB

Edwards, CA

Landholding Agency: NASA

Property Number: 71201430004

Status: Excess

Comments: Public access denied and no alternative without compromising national security.

Reasons: Secured Area

ARCATA Administration Facility

AFRC on Edwards AFB

Edwards, CA

Landholding Agency: NASA

Property Number: 71201430005

Status: Excess

Comments: Public access denied & no alternative without compromising national security.

Reasons: Secured Area

Shuttle Support (Debris)

Trailer

AFRC on Edwards AFB

Edwards, CA

Landholding Agency: NASA

Property Number: 71201430006

Status: Excess

Comments: Public access denied and no alternative without compromising national security.

Reasons: Secured Area

Calibration Facility

AFRC on Edwards AFB

Edwards, CA

Landholding Agency: NASA

Property Number: 71201430007

Status: Excess

Comments: Public access denied and no alternative without compromising national security.

Reasons: Secured Area

Strategic Communications Office

AFRC on Edwards AFB

Edwards, CA

Landholding Agency: NASA

Property Number: 71201430009

Status: Excess

Comments: Public access denied & no alternative without compromising national security.

Reasons: Secured Area

Guard Post No. 6

AFRC on Edwards AFB

Edwards, CA

Landholding Agency: NASA

Property Number: 71201430010

Status: Excess

Comments: Public access denied & no alternative without compromising national security.

Reasons: Secured Area

Paint Spray Building

AFRC on Edwards AFB

Edwards, CA

Landholding Agency: NASA

Property Number: 71201430011

Status: Excess

Comments: Public access denied & no alternative without compromising national security.

Reasons: Secured Area

Astronaut Trailers

AFRC on Edwards AFB

Edwards, CA

Landholding Agency: NASA

Property Number: 71201430012

Status: Excess

Directions: T-69; T-70

Comments: Public access denied & no alternative without compromising national security.

Reasons: Secured Area

Projects Office Trailer

AFRC on Edwards AFB

Edwards, CA

Landholding Agency: NASA

Property Number: 71201430013

Status: Excess

Comments: Public access denied & no alternative without compromising national security.

Reasons: Secured Area

Inspector General Office Trail

AFRC on Edwards AFB

Edwards, CA

Landholding Agency: NASA

Property Number: 71201430014

Status: Excess

Comments: Public access denied & no alternative without compromising national security.

Reasons: Secured Area

Shuttle Support Administration

Office

AFRC on Edwards AFB

Edwards, CA

Landholding Agency: NASA

Property Number: 71201430015

Status: Excess

Comments: Public access denied & no alternative without compromising national security.

Reasons: Secured Area

Paint & Oil Storage (Shuttle)

AFRC on Edwards AFB

Edwards, CA

Landholding Agency: NASA

Property Number: 71201430016

Status: Excess

Comments: Public access denied & no alternative without compromising national security.

Reasons: Secured Area

Shuttle Support (Flight Crew

Equipment) Trailer

AFRC on Edwards AFB

Edwards, CA

Landholding Agency: NASA

Property Number: 71201430017

Status: Excess

Comments: Public access denied & no alternative without compromising national necurity.

Reasons: Secured Area

Project Support Complex

AFRC on Edwards AFB

Edwards, CA

Landholding Agency: NASA

Property Number: 71201430018

Status: Excess

Comments: Public access denied & no alternative without compromising national security.

Reasons: Secured Area

Battery Maintenance Shop

AFRC on Edwards AFB

Edwards, CA

Landholding Agency: NASA

Property Number: 71201430019

Status: Excess

Comments: Public access denied & no alternative without compromising national security.

Reasons: Secured Area

Shuttle Support (KSC Payloads)

Trailer

AFRC on Edwards AFB

Edwards, CA

Landholding Agency: NASA

Property Number: 71201430020

Status: Excess

Comments: Public access denied & no alternative without compromising national security.

Reasons: Secured Area

Florida

5 Buildings

P.O. Box 9007, Naval Air Station

Key West, FL 33040

Landholding Agency: Navy

Property Number: 77201430003

Status: Excess

Directions: A-332; A-336; A-726; A-4107; A-4230

Comments: Public access denied and no alternative without compromising national security.

Reasons: Secured Area

Mississippi

Building 1105 Laboratory/

Office Facility

Stennis Space Center

Hancock, MS 39529

Landholding Agency: NASA

Property Number: 71201430008

Status: Unutilized

Comments: Public access denied and no alternative without compromising national security.

Reasons: Secured Area

New Jersey

Cutter Support (47579)

USCG ANT

85 Port Terminal Blvd.

Bayonne, NJ 07002

Landholding Agency: Coast Guard

Property Number: 88201430001

Status: Unutilized

Comments: Documented deficiencies: Damaged by Sandy; foundation structurally unsound; major water damage; any attempt will result in the complete collapse of property.

Reasons: Extensive deterioration

New York

Building 215 Wings E &F

Coast Guard Dr.

Staten Island, NY 10305

Landholding Agency: Coast Guard

Property Number: 88201430002

Status: Unutilized

Comments: Public access denied and no alternative method w/out compromising national security.

Reasons: Secured Area

Rhode Island

208

Quonset

N. Kingstown, RI

Landholding Agency: Air Force

Property Number: 18201430032

Status: Underutilized

Comments: Public access denied and no alternative method to gain access w/out compromising national security.

Reasons: Secured Area

[FR Doc. 2014-19050 Filed 8-14-14; 8:45 am]

BILLING CODE 4210-67-P